DEPARTMENT OF COMMERCE

International Trade Administration

[A-552-831]

Seamless Refined Copper Pipe and Tube From the Socialist Republic of Vietnam: Postponement of Final Determination of Less-Than-Fair-Value Investigation

AGENCY: Enforcement and Compliance, International Trade Administration, Department of Commerce.

SUMMARY: The Department of Commerce (Commerce) is postponing the deadline for issuing the final determination in the less-than-fair-value (LTFV) investigation of imports of seamless refined copper pipe and tube (copper pipe and tube) from the Socialist Republic of Vietnam (Vietnam) until June 16, 2021, and is extending the provisional measures from a four-month period to a period of not more than six months.

DATES: Applicable February 8, 2021.

FOR FURTHER INFORMATION CONTACT: Ariela Garvett, AD/CVD Operations, Office IV, Enforcement and Compliance, International Trade Administration, U.S. Department of Commerce, 1401 Constitution Avenue NW, Washington, DC 20230; telephone: (202) 482-3609.

SUPPLEMENTARY INFORMATION:

Background

On July 20, 2020, Commerce initiated the LTFV investigation of imports of copper pipe and tube from Vietnam.¹ The period of investigation is October 1, 2019, through March 31, 2020. On February 1, 2021, Commerce published its Preliminary Determination in this LTFV investigation.²

¹ See Seamless Refined Copper Pipe and Tube from the Socialist Republic of Vietnam: Initiation of Less-Than-Fair-Value Investigation, 85 FR 47181 (August 4, 2020).

² See Seamless Refined Copper Pipe and Tube from the Socialist Republic of Vietnam: Preliminary Affirmative Determination of Sales at Less Than Fair Value and Preliminary Negative Determination of Critical Circumstances, 86 FR 7698 (February 1, 2021) (Preliminary Determination).

Postponement of the Final Determination

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant portion of exports of the subject merchandise, or in the event of a negative preliminary determination, a request for such postponement is made by the petitioner. Further, 19 CFR 351.210(e)(2) requires that such postponement requests by exporters be accompanied by a request for extension of provisional measures from a four-month period to a period of not more than six months, in accordance with section 733(d) of the Act.

On January 28, 2021, Hailiang (Vietnam) Copper Manufacturing Company Limited/Hongkong Hailiang Metal Trading Limited (also known as Hong Kong Hailiang Metal Trading Limited) (Hailiang Vietnam/Hongkong Hailiang), the sole mandatory respondent in this investigation, requested that Commerce postpone the deadline for the final determination until no later than 135 days from the publication of the Preliminary Determination and extend the application of the provisional measures from a four-month period to a period of not more than six months.³ Additionally, on January 28, 2021, the American Copper Tube Coalition and its constituent members ⁴ (the petitioners) requested that Commerce postpone the deadline for the final determination.⁵ In accordance with section 735(a)(2)(A) of the Act and 19 CFR 351.210(b)(2)(ii), because: (1) The preliminary determination was affirmative; (2) the request was made by the exporter and producer who accounts for a significant proportion of exports of the subject merchandise; and (3) no compelling reasons for denial exist, Commerce is postponing the final determination until no later than 135 days after the date of the publication of the Preliminary Determination and extending the provisional measures from a four-month period to a period of not more than six months. Accordingly, Commerce will issue its final determination no later than June 16, 2021.

³ See Hailiang Vietnam/Hongkong Hailiang's Letter, “Hailiang Request to Postpone Final Determination in the Less-Than-Fair-Value Investigation of Seamless Refined Copper Pipe and Tube from the Socialist Republic of Vietnam: (A-552-831),” dated January 28, 2021.

⁴ The members of the American Copper Tube Coalition are Mueller Copper Tube Products, Inc., Mueller Copper Tube West Co., Mueller Copper Tube Company, Inc., Howell Metal Company, and Linesets, Inc. (collectively, Mueller Group) and Cerro Flow Products, LLC.

⁵ See Petitioners' Letter, “Seamless Refined Copper Pipe and Tube from Vietnam: Confirmation of No Objection to Extension of Final Results,” dated January 28, 2021.

Notice to Interested Parties

This notice is issued and published pursuant to section 735(a)(2) of the Act and 19 CFR 351.210(g).

Dated: February 1, 2021.
Christian Marsh,
Acting Assistant Secretary for Enforcement and Compliance.

[FR Doc. 2021-02458 Filed 2-5-21; 8:45 am]

BILLING CODE 3510-DS-P